DEPARTMENT OF COMMERCE

International Trade Administration

[A-523-808]

Certain Steel Nails From the Sultanate of Oman: Preliminary Results of Antidumping Duty Administrative Review and Preliminary Determination of No-Shipments; 2018-2019

AGENCY: Enforcement and Compliance, International Trade Administration, Department of Commerce.

SUMMARY: The Department of Commerce (Commerce) preliminarily determines that certain steel nails (steel nails) from the Sultanate of Oman (Oman) are not being sold in the United States at less than normal value during the period of review (POR) of July 1, 2018 through June 30, 2019. Additionally, we preliminarily find that certain companies made no shipments during the POR.

DATES: Applicable September 30, 2020.

FOR FURTHER INFORMATION CONTACT: Dakota Potts at (202) 482-0223 or Stephen Bailey at (202) 482-0193, AD/CVD Operations, Office IV, Enforcement and Compliance, International Trade Administration, U.S. Department of Commerce, 1401 Constitution Avenue NW, Washington, DC 20230.

SUPPLEMENTARY INFORMATION:

On July 13, 2015, Commerce published the antidumping duty (AD) Order on nails from Oman.¹ On July 1, 2019, Commerce notified interested parties of the opportunity to request an administrative review of orders with anniversaries in July 2019.² On July 31, 2019, Oman Fasteners LLC (Oman Fasteners) and Mid Continent Steel & Wire, Inc. (the petitioner) each requested that Commerce conduct an administrative review with respect to seven companies.³ On September 9, 2019, Commerce initiated the AD administrative review of steel nails from Oman for the POR.⁴ On October 4, 2019, Commerce selected Oman Fasteners as the sole mandatory respondent in this review and issued the intial AD questionnaire.⁵ Between November 1, 2019 and June 12, 2020, Oman Fasteners timely responded to Commerce's requests for information.

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity to Request Administrative Review, 84 FR 31295 (July 1, 2019).

³ See Petitioner's Letter, “Certain Steel Nails from Oman: Request for Administrative Reviews,” dated July 31, 2019; see also Oman Fasteners' Letter, “Certain Steel Nails from Oman; Fourth Review; Oman Fasteners' Request for Review,” dated July 31, 2019.

⁴ The following exporters and/or producers of steel nails from Oman are subject to this review: (1) Al Kiyumi Global LLC (Al Kiyumi); (2) Astrotech Steels Private Ltd. (Astrotech); (3) Geekay Wires Limited (Geekay); (4) Modern Factory For Metal Products (Modern Factory); (5) Oman Fasteners; (6) Trinity Steel Private Limited (Trinity); and (7) WWL India Private Ltd (WWL India). See Initiation of Antidumping and Countervailing Duty Administrative Reviews, 84 FR 47242 (September 9, 2019) (Initiation Notice).

⁵ See Commerce's Letter dated October 4, 2019.

On March 18, 2020, Commerce extended the deadline for the preliminary results of this review by 65 days.⁶ On April 24, 2020, Commerce tolled all deadlines in administrative reviews by 50 days,⁷ and again on July 21, 2020, by an additional 60 days,⁸ thereby extending the deadline for these results until September 23, 2020.

⁶ See Memorandum, “Certain Steel Nails from the Sultanate of Oman: Extension of Deadline for Preliminary Results of Antidumping Duty Administrative Review,” dated March 18, 2020.

⁷ See Memorandum, “Tolling of Deadlines for Antidumping and Countervailing Duty Administrative Reviews in Response to Operational Adjustments Due to COVID-19,” dated April, 24, 2020.

⁸ See Memorandum, “Tolling of Deadlines for Antidumping and Countervailing Duty Administrative Reviews,” dated July 21, 2020.

Scope of the Order

The merchandise covered by this Order is steel nails having a nominal shaft length not exceeding 12 inches.⁹ Merchandise covered by the Order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this Order also may be classified under HTSUS subheadings 7907.00.60.00, 8206.00.00.00 or other HTSUS subheadings. While the HTSUS subheadings are provided for convenience and customs purposes, the written description of the scope of this Order is dispositive. For a complete description of the scope of the Order, see the Preliminary Decision Memorandum.¹⁰

⁹ The shaft length of certain steel nails with flat heads or parallel shoulders under the head shall be measured from under the head or shoulder to the tip of the point. The shaft length of all other certain steel nails shall be measured overall.

¹⁰ See Memorandum, “Decision Memorandum for Preliminary Results of the 2018-2019 Antidumping Duty Administrative Review of Certain Steel Nails from the Sultanate of Oman,” dated concurrently with, and hereby adopted by this notice (Preliminary Decision Memorandum).

The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly on the internet at http://enforcement.trade.gov/frn/. The signed and electronic versions of the Preliminary Decision Memorandum are identical in content.

Methodology

Commerce is conducting this review in accordance with section 751(a) of the Tariff Act of 1930, as amended (the Act). Export price and constructed export price are calculated in accordance with section 772 of the Act. Normal value is calculated in accordance with section 773 of the Act.

For a full description of the methodology underlying our conclusions, see the Preliminary Decision Memorandum.¹¹ A list of topics included in the Preliminary Decision Memorandum is included as an Appendix to this notice.

¹¹ See Preliminary Decision Memorandum.

Preliminary Determination of No Shipments

On October 1, 3, and 4, Astrotech, Geekay, and Trinity, respectively, submitted letters certifying that each company had no exports or sales of subject merchandise into the United States during the POR.¹² U.S. Customs and Border Protection (CBP) did not have any information to contradict these claims of no shipments during the POR. Therefore, we preliminarily determine that Astrotech, Geekay, and Trinity did not have any reviewable transactions during the POR. Consistent with Commerce's practice, we will not rescind the review with respect to Astrotech, Geekay, and Trinity, but rather will complete the review and issue instructions to CBP based on the final results.¹³

¹² See Astrotech's Letter, “Certain Steel Nails from Oman Request for No Shipment During the Period of Review (POR),” dated October 1, 2019; Geekay's Letter, “Certain Steel Nails—Oman Request for No Shipment during the Period of Review (POR),” dated October 3, 2019; and Trinity's Letter, “Certain Steel Nails—Oman Notice of No Sales During the Period of Review (POR),” dated October 4, 2019.

¹³ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we have calculated a weighted-average dumping margin for the sole respondent, Oman Fasteners of zero percent. Accordingly, we have assigned to the companies not individually examined a margin of 0.00 percent, the sole margin calculated in this proceeding.

Preliminary Results of Review

As a result of this review, we preliminarily determine the following weighted-average dumping margins for the period July 1, 2018 through June 30, 2019:

Exporter/producer | Weighted- average dumping margins (percent)
Oman Fasteners LLC | 0.00
Al Kiyumi Global LLC | 0.00
Modern Factory For Metal Products | 0.00
WWL India Private Ltd | 0.00

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than seven days after the time limit for filing case briefs.¹⁴

¹⁴ See 19 CFR 351.309(d)(1).

Note that Commerce has temporarily modified certain of its requirements for serving documents containing business proprietary information, until further notice.¹⁵ Parties who submit case briefs or rebuttal briefs in this proceeding are requested to submit with each brief: (1) A statement of the issue, (2) a brief summary of the argument, and (3) a table of authorities.¹⁶ Executive summaries should be limited to five pages total, including footnotes.¹⁷ Case and rebuttal briefs should be filed using ACCESS.¹⁸

¹⁵ See 19 CFR 351.303 (for general filing requirements); see also Temporary Rule Modifying AD/CVD Service Requirements Due to COVID-19, 85 FR 17006 (March 26, 2020) (Temporary Rule); and Temporary Rule Modifying AD/CVD Service Requirements Due to COVID-19; Extension of Effective Period, 85 FR 41363 (July 10, 2020).

¹⁶ See 19 CFR 351.309(c)(2) and (d)(2).

¹⁷ Id.

¹⁸ See 19 CFR 351.303.

Pursuant to 19 CFR 351.310(c), any interested party may request a hearing within 30 days of the publication of this notice in the Federal Register. If a request for a hearing is made, Commerce intends to hold the hearing at a time and date to be determined. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs. We intend to issue the final results of this administrative review, including the results of our analysis of issues raised by the parties in the written comments, within 120 days of publication of these preliminary results in the Federal Register, unless otherwise extended.¹⁹

¹⁹ See section 751(a)(3)(A) of the Act.

Assessment Rates

Upon completion of the administrative review, Commerce shall determine, and CBP shall assess, antidumping duties on all appropriate entries. Commerce intends to issue assessment instructions to CBP 15 days after the date of publication of the final results of this review.

For any individually examined respondents whose weighted-average dumping margin is above de minimis (i.e., 0.50 percent), we will calculate importer-specific ad valorem duty assessment rates on the basis of the ratio of the total amount of dumping calculated for an importer's examined sales and the total entered value of such sales, in accordance with 19 CFR 351.212(b)(1).²⁰ For entries of subject merchandise during the POR produced by each respondent for which it did not know its merchandise was destined for the United States, we will instruct CBP to liquidate such entries at the all-others rate if there is no rate for the intermediate company(ies) involved in the transaction.²¹ Where either the respondent's weighted-average dumping margin is zero or de minimis, or an importer-specific assessment rate is zero or de minimis, we will instruct CBP to liquidate the appropriate entries without regard to antidumping duties.

²⁰ In these preliminary results, Commerce applied the assessment rate calculation methodology adopted in Antidumping Proceedings: Calculation of the Weighted-Average Dumping Margin and Assessment Rate in Certain Antidumping Proceedings: Final Modification, 77 FR 8101 (February 14, 2012).

²¹ See Antidumping and Countervailing Duty Proceedings: Assessment of Antidumping Duties, 68 FR 23954 (May 6, 2003).

For the companies which were not selected for individual review, we intend to assign an assessment rate based on the methodology described in the “Rates for Non-Examined Companies” section.

Commerce intends to issue appropriate assessment instructions directly to CBP 15 days after publication of this notice. The final results of this review shall be the basis for the assessment of antidumping duties on entries of merchandise covered by the final results of this review and for future deposits of estimated duties, where applicable.

Cash Deposit Requirement

The following cash deposit requirements will be effective upon publication of the notice of the final results of administrative review for all shipments of nails from Oman entered, or withdrawn from warehouse, for consumption on or after the date of publication of the final results of this administrative review, as provided by section 751(a)(2)(C) of the Act: (1) The cash deposit rate for the companies under review will be the rate established in the final results of this review (except, if the rate is zero or de minimis, as it is for Oman Fasteners LLC in these preliminary results. In that case, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, then the cash deposit rate will be the rate established for the most recently completed segment of the proceeding for the manufacturer of the merchandise; and (4) the cash deposit rate for all other manufacturers or exporters will continue to be 9.10 percent ad valorem, the all-others rate established in the less-than-fair value investigation.²²

²² See Certain Steel Nails from the Republic of Oman: Final Determination of Sales at Less Than Fair Value, 80 FR 28955 (May 20, 2015).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act and 19 CFR 351.213(h)(1).

Dated: September 23, 2020.
Jeffrey I. Kessler,
Assistant Secretary for Enforcement and Compliance.

Appendix

List of Topics Discussed in the Preliminary Decision Memorandum

I. Summary

II. Background

III. Scope of the Order

IV. Companies Not Selected for Individual Examination

V. Preliminary Determination of No Shipments

VI. Discussion of the Methodology

VII. Recommendation

[FR Doc. 2020-21582 Filed 9-29-20; 8:45 am]

BILLING CODE 3510-DS-P